DEPARTMENT OF LABOR

Office of Disability Employment Policy

[OMB Number 1230-NEW]

Solicitation for Grant Applications (SGA) 07-09; National Technical Assistance Center on Transition and Employment for Youth With Disabilities

AGENCY: Office of Disability Employment Policy, Department of Labor.

ACTION: Notice of correction.

SUMMARY: Solicitation for Grant Applications (SGA) 07-09; National Technical Assistance Center on Transition and Employment for Youth with Disabilities; Notice of Correction.

1. Subject: National Technical Assistance Center on Transition and Employment for Youth with Disabilities; Solicitation for Cooperative Agreement.

2. Purpose: The Office of Disability Employment Policy (ODEP) announced a competition to fund a cooperative agreement to establish the National Technical Assistance Center on Transition and Employment for Youth with Disabilities within a 24-month period of performance. This solicitation was previously published in the Federal Register (72 FR 26836) on May 11, 2007. ODEP has since determined that $150,000 should be added to the total amount being awarded; accordingly, this document serves as notification that up to $1,850,000 is now available to fund this cooperative agreement.

3. Originator: Office of Disability Employment Policy (ODEP).

4. Dates: Applications must be mailed, hand-delivered or electronically sent to: U.S. Department of Labor, Procurement Services Center, Attention: Cassandra Mitchell, Reference SGA 07-09, Room S-4307, 200 Constitution Avenue, NW., Washington, DC 20210. Applications sent by e-mail or telefascimile (FAX) will not be accepted. The closing date for receipt of applications is June 25, 2007. All applications, including those hand-delivered, must be received not later than 4:45 p.m. (EST).

FOR FURTHER INFORMATION CONTACT: Any questions regarding this SGA prior to the closing deadline, should be directed to Cassandra Mitchell, Procurement Services Center, e-mail address: Mitchell.cassandra@dol.gov or at telephone (202) 693-4570 (note that this is not a toll-free number). To obtain further information about the Office of Disability Employment Policy of the U.S. Department of Labor, visit the DOL Web site of the Office of Disability Employment Policy at http://www.dol.gov/odep.

Signed at Washington, DC, this 12th day of June, 2007.
Cassandra R. Mitchell,
Grant Officer.

[FR Doc. E7-11562 Filed 6-14-07; 8:45 am]

BILLING CODE 4510-FK-P